DEPARTMENT OF LABOR

Employment and Training Administration

[TA-W-39,112]

DuCoa, L.P., Verona, MO; Notice of Revised Determination on Reconsideration

By letter of August 21, 2001, the company requested administrative reconsideration regarding the Department's Negative Determination Regarding Eligibility to Apply for Worker Adjustment Assistance, applicable to the workers of the subject firm.

The initial investigation resulted in a negative determination issued on July 16, 2001, based on the finding that imports of calcium propionate, sodium propionate and calcium acetate did not contribute importantly to worker separations at the subject plant. The denial notice was published in the Federal Register on August 6, 2001 (66 FR 41052).

To support the request for reconsideration, the company supplied additional information. The company indicated that plant production was shifted to an affiliated plant located in the Netherlands and that the foreign plant imported the propionates and acetate back to the United States to serve the subject firm's domestic customer base during the relevant period.

The company also indicated that the overwhelming majority of their customer base was directed toward the U.S. market and that the products sold were not for the export market as indicated in the initial decision.

Conclusion

After careful review of the additional facts obtained on reconsideration, I conclude that increased imports of articles like or directly competitive with those produced at DuCoa, L.P., Verona, Missouri contributed importantly to the declines in sales or production and to the total or partial separation of workers at the subject firm. In accordance with the provisions of the Act, I make the following certification:

All workers of DuCoa, L.P., Verona, Missouri, who became totally or partially separated from employment on or after April 11, 2000 through two years from the date of this certification, are eligible to apply for adjustment assistance under Section 223 of the Trade Act of 1974.

Signed in Washington, DC, this 26th day of December 2001.
Edward A. Tomchick,
Director, Division of Trade Adjustment Assistance.

[FR Doc. 02-2342 Filed 1-30-02; 8:45 am]

BILLING CODE 4510-30-M